NATIONAL FOUNDATION ON THE ARTS AND HUMANITIES

Institute of Museum and Library Services

Submission for OMB Review, Comment Request, Proposed Collection: IMLS Collections Assessment for Preservation Program

AGENCY: Institute of Museum and Library Services, National Foundation on the Arts and Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Comments must be submitted to the office listed in the ADDRESSES section below on or before April 5, 2018.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

SUPPLEMENTARY INFORMATION: The Institute of Museum and Library Services is the primary source of federal support for the Nation's 120,000 libraries and 35,000 museums and related organizations. The Institute's mission is to inspire libraries and museums to advance innovation, lifelong learning, and cultural and civic engagement. Our grant making, policy development, and research help libraries and museums deliver valuable services that make it possible for communities and individuals to thrive. To learn more, visit www.imls.gov.

Current Actions: This notice proposes the clearance of the IMLS Collection Assessment for Preservation Program forms and guidelines. The 60-day Notice for the “Notice of Proposed Information Collection Requests: 2019-2021 IMLS Collection Assessment for Preservation Program” was published in the Federal Register on November 28, 2017 (82 FR 56275). The agency has taken into consideration the one comment that was received under this notice.

The Collections Assessment for Preservation Program (CAP) is designed to support collections assessments for small and medium-sized museums throughout the nation. The collections assessment is a study of all of the institution's collections, buildings and building systems, as well as its policies and procedures relating to collections care. Participants who complete the program receive an assessment report with prioritized recommendations to improve collections care.

Agency: Institute of Museum and Library Services.

Title: Collection Assessment for Preservation Program Forms.

OMB Number: 3137-0103.

Frequency: Once per application.

Affected Public: Museum applicants.

Number of Respondents: 775.

Estimated Average Burden per Response: 4 hours.

Estimated Total Annual Burden: 392 hours.

Total Annualized capital/startup costs: n/a.

Total Annual costs: $10,732.

Dated: March 5, 2018.
Kim A. Miller,
Grants Management Specialist, Office of Grant Policy and Management.

[FR Doc. 2018-04717 Filed 3-14-18; 8:45 am]

BILLING CODE 7036-01-P